NATIONAL COUNCIL ON DISABILITY

Sunshine Act Meetings

TIME AND DATE: The Members of the National Council on Disability (NCD) will hold a two-day in-person Council meeting on Thursday, March 6, 2025, 10 a.m.-3:10 p.m. Eastern Standard Time (EST). and Friday, March 7, 2025, 10 a.m.-12 p.m., EST.

PLACE: This meeting will occur at the U.S. Access Board Conference Room, 1331 F Street NW, Suite 800, Washington, DC 20004. The event will also be streamed live via Zoom videoconference for those not able to attend in person. Details are available on NCD's event page at https://www.ncd.gov/meeting/2025-03-06-march-6-7-2025-council-meeting/.

MATTERS TO BE CONSIDERED:

Day 1—Following welcome remarks and introductions, a panel will present a NCD overview video and hold a pinning ceremony for its newest member; followed by a report release on Disabled Worker Tax Misclassification, with a panel discussion; Council member report outs; lunch break; followed by a panel discussion regarding recent experiences of people with disabilities during disasters; a public comment session focused on young people in nursing homes; followed by adjournment.

Day 2—Following welcome and call to order, NCD Council members and staff will receive annual ethics training; followed by the Chairman's report and Executive Committee Report, before adjourning.

Agenda: The times provided below are approximations for when each agenda item is anticipated to be discussed (all Eastern Saving Time):

Thursday, March 6, 2025

10:00-10:15 a.m.—Welcome Greetings, Roll Call, Acceptance of Agenda

10:15-10:30 a.m.—NCD Pinning Ceremony

10:30-11:30 a.m.—Disabled Worker Tax Misclassification Report Release and Panel Discussion

11:30 a.m.-12:00 p.m.—Council Member Report Outs

12:00-1:30 p.m.—Lunch Break

1:30-2:30 p.m.—Recent Experiences of People With Disabilities During Disasters Panel Discussion

2:30-3:10 p.m.—Public Comment About Younger People in Nursing Homes

3:10 p.m.—Adjourn

Friday, March 7, 2025

10:00-10:05 a.m.—Welcome and Call to Order

10:05-11:30 a.m.—Annual Ethics Training

11:30-11:40 a.m.—Chairman's Report, Inclusive of Policy Update

11:40 a.m.-12:00 p.m.—Executive Committee Report

12:00 p.m.—Adjourn

Public Comment: Your participation during the public comment period provides an opportunity for us to hear from you—individuals, businesses, providers, educators, parents and advocates. Your comments are important in bringing to the Council's attention and issues and priorities of the disability community.

For the March 6 Council meeting, NCD will have a public comment period of 40 minutes and requests comments from the public regarding experiences of younger people in nursing homes. Additional information on specifics of the topic is available on NCD's public comment page at https://ncd.gov/public-comment.

The Council will prioritize in-person commenters, but as time permits, will also receive public comment by video or audio over Zoom, and always accepts advance public comments via email. Due to the hybrid nature of the event, in-person presentations will be given priority.

To provide public comment during an NCD Council Meeting, NCD now requires advanced registration by either signing up to present while registering for the meeting or sending an email to PublicComment@ncd.gov with the subject line “Public Comment” and your name, organization, state, and topic of comment included in the body of your email.

Deadline for registration is March 4, 8:00 p.m. EST. Please indicate if you are providing the comment in-person, over Zoom, or only submitting via email. All individuals desiring to make public comment are strongly encouraged to read NCD's guidelines for public comment in advance of the meeting at: https://ncd.gov/public-comment.

While public comment can be submitted on any topic over email, comments during the meeting should be specific to experiences with younger people with disabilities in nursing homes.

CONTACT PERSON FOR MORE INFORMATION: Nicholas Sabula, Public Affairs Specialist, NCD, 1331 F Street NW, Suite 850, Washington, DC 20004; 202-272-2004 (V), or nsabula@ncd.gov.

ACCOMODATIONS: ASL Interpreters will be provided in-room and included during the live streamed meeting, and CART has been arranged for this meeting and will be embedded into the Zoom platform as well as available via streamtext link. The web link to access CART Streamtext: https://www.streamtext.net/player?event=NCD.

If you require additional accommodations, please notify Stacey Brown by sending an email to sbrown@ncd.gov as soon as possible and no later than 24 hours prior to the meeting.

Due to last-minute confirmations or cancellations, NCD may substitute items without advance public notice.

Dated: February 19, 2025.
Anne C. Sommers McIntosh,
Director of Legislative Affairs and Outreach.

[FR Doc. 2025-03023 Filed 2-19-25; 4:15 pm]

BILLING CODE 8421-02-P